DEPARTMENT OF TRANSPORTATION

Office of the Secretary

Application of National Air Cargo Group Inc d/b/a National Airlines for Foreign Scheduled Authority

AGENCY: Department of Transportation.

ACTION: Notice of Order to Show Cause (Order 2013-4-12), Docket SOT-OST-2012-0204, Docket SOT-OST-2012-0205.

SUMMARY: The Department of Transportation is directing all interested persons to show cause why it should not issue an order finding National Air Cargo Group, Inc., d/b/a National Airlines fit, willing, and able to provide foreign scheduled air transportation of persons, property and mail to certain countries.

DATES: Persons wishing to file objections should do so no later than April 18, 2013.

ADDRESSES: Objections and answers to objections should be filed in Dockets DOT-OST-2012-204 and DOT-OST-2012-205 and addressed to U.S. Department of Transportation, Docket Operations, (M-30, Room W12-140), 1200 New Jersey Avenue SE., West Building Group Floor, Washington, DC 20590, and should be served upon the parties listed in Attachment A to the order.

FOR FURTHER INFORMATION CONTACT: Catherine J. O'Toole, Air Carrier Fitness Division (X-56, Room W86-469), U.S. Department of Transportation, 1200 New Jersey Avenues SE., Washington, DC 20590, (202) 366-9998.

Dated: April 15, 2013.
Susan L. Kurland,
Assistant Secretary for Aviation and International Affairs.

[FR Doc. 2013-09557 Filed 4-23-13; 8:45 am]

BILLING CODE M